DEPARTMENT OF THE INTERIOR

Bureau of Land Management

[WO-220-12-1020-JA-VEIS]

Notice of Intent To Prepare an Environmental Impact Statement To Evaluate the Use of Three New Herbicides on Public Lands in 17 Western States

AGENCY: Bureau of Land Management, Interior.

ACTION: Notice of intent.

SUMMARY: In compliance with the National Environmental Policy Act of 1969, as amended (NEPA), and the Federal Land Policy and Management Act of 1976, as amended, the Bureau of Land Management (BLM), Washington, DC, intends to prepare an Environmental Impact Statement (EIS) to evaluate the use of aminopyralid, fluroxypyr, and rimsulfuron herbicides as part of the its vegetation treatment programs on public lands in 17 Western States. By this notice, the BLM is announcing the beginning of the scoping process to solicit public comments and identify issues.

DATES: Comments on issues may be submitted in writing until February 19, 2013. For inclusion in the Draft EIS, all comments must be received prior to the close of the scoping period, or 15 days after the last public meeting, whichever is later. The BLM will hold three public scoping meetings: On January 7, 2013, in Worland, Wyoming; January 9, 2013, in Reno, Nevada; and January 10, 2013, in Albuquerque, New Mexico. The times and locations of the meetings can be found in the SUPPLEMENTARY INFORMATION section below. The BLM will provide additional opportunities for public participation upon publication of the Draft EIS.

ADDRESSES: You may submit scoping comments related to the EIS for the use of aminopyralid, fluroxypyr, and rimsulfuron on BLM Public Lands in 17 Western States by any of the following methods:

• Web site: http://blm.gov/3vkd.

• Email: VegEIS@blm.gov.

• Fax: 206-623-3793.

• Mail: AECOM, Attn. Stuart Paulus, 710 Second Avenue, Suite 1000, Seattle, WA 98104.

Documents pertinent to this proposal may be examined at the BLM Washington Office, 20 M Street SE., Room 2134, Washington, DC 20003.

FOR FURTHER INFORMATION CONTACT: For further information and/or to have your name added to our mailing list, contact Gina Ramos, Senior Weeds Specialist, telephone 202-912-7226 or Stuart Paulus, Project Manager, telephone 206-403-4287. Persons who use a telecommunications device for the deaf (TDD) may call the Federal Information Relay Service (FIRS) at 1-800-877-8339 to contact the referenced individual during normal business hours. The FIRS is available 24 hours a day, 7 days a week, to leave a message or question with the above individual. You will receive a reply during normal business hours.

SUPPLEMENTARY INFORMATION: This national programmatic EIS proposes to add aminopyralid, fluroxypyr, and rimsulfuron to the BLM's approved list of herbicides for (1) Controlling noxious weeds and other invasive species; and (2) Conserving and restoring native vegetation, watersheds, and fish and wildlife habitat. The EIS will evaluate the use of the three new herbicides as part of the BLM's vegetation treatment programs on public lands in 17 Western States. The analysis area will include all surface estate public lands administered by the BLM in the following Western States: Alaska, Arizona, California, Colorado, Idaho, Kansas, Montana, Nevada, North and South Dakota, New Mexico, Oklahoma, Oregon, Texas, Utah, Washington, and Wyoming. The purpose of the proposed action is to expand the BLM's vegetation treatment program to allow herbicide treatments with aminopyralid, fluroxypyr, and rimsulfuron. This action would increase the number of active ingredients approved for use, and would give the BLM increased flexibility and options when designing herbicide treatments.

The BLM has initially identified the following issues for analysis in this programmatic EIS: Effects of herbicides and inert ingredients used in herbicide formulations on human, vegetation, fish and wildlife, livestock, and wild horse and burro health; water quality; Native American resources and resource use; and the cumulative use of these and other herbicides by the BLM and other landowners in the Western U.S.

The BLM will follow NEPA public participation requirements to assist the agency in satisfying public involvement requirements under Section 106 of the National Historic Preservation Act (NHPA) (16 U.S.C. 470(f)) pursuant to 36 CFR 800.2(d) (3). The information about historic and cultural resources within the area potentially affected by the proposed action will assist the BLM in identifying and evaluating impacts to such resources in the context of both NEPA and Section 106 of the NHPA. The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process. If eligible, you may request, or be requested by the BLM, to participate in the development of the environmental analysis as a cooperating agency.

The BLM will hold the following scoping meetings to seek public comments to identify any issues surrounding the agency's proposal to prepare the EIS:

January 7, 2013—7 p.m., Worland Community Center Complex, 1200 Culbertson Ave., Worland, Wyoming;

January 9, 2013—7 p.m., Hyatt Place, 1790 East Plumb Lane, Reno, Nevada; and

January 10, 2013—7 p.m., BLM Albuquerque District Office, 435 Montano Rd. NE., Albuquerque, New Mexico.

Before including your address, phone number, email address, or other personal identifying information in your comment, you should be aware that your entire comment—including your personal identifying information—may be made publicly available at any time. While you may request in your comment that your personal identifying information be withheld from public review, we cannot guarantee that we will be able to do so.

Authority: 40 CFR 1501.7.

Edwin Roberson,
Assistant Director, Renewable Resources and Planning.

[FR Doc. 2012-30838 Filed 12-20-12; 8:45 am]

BILLING CODE 4310-84-P